DEPARTMENT OF THE INTERIOR

National Park Service

[NPS-WASO-NAGPRA-20401; PPWOCRADN0-PCU00RP14.R50000]

Notice of Inventory Completion: Sheriff's Office, Berrien County, Saint Joseph, MI

AGENCY: National Park Service, Interior.

ACTION: Notice.

SUMMARY: The Sheriff's Office of Berrien County, MI has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Berrien County Sheriff's Office. If no additional requestors come forward, transfer of control of the human remains to the Indian tribes or Native Hawaiian organizations stated in this notice may proceed.

DATES: Representatives of any Indian tribe or Native Hawaiian organization not identified in this notice that wish to request transfer of control of these human remains should submit a written request with information in support of the request to the Berrien County Sheriff's Office at the address in this notice by April 29, 2016.

ADDRESSES: Berrien County Sheriff's Office, Attention Chief Deputy Michael Bradley, 919 Port Street, Saint Joseph, MI 49085, email mbradley@berriencounty.org.

SUPPLEMENTARY INFORMATION: Notice is here given in accordance with the Native American Graves Protection and Repatriation Act (NAGPRA), 25 U.S.C. 3003, of the completion of an inventory of human remains under the control of the Berrien County Sheriff's Office. The human remains were removed from Galien River in New Buffalo, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation: A detailed assessment of the human remains was made by the Berrien County Sheriff's office and the Michigan State University Anthropology Department professional staff in consultation with representatives of the Absentee-Shawnee Tribe of Indians of Oklahoma; Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana (previously listed as the Chippewa-Cree Indians of the Rocky Boy's Reservation, Montana); Citizen Potowatomi Nation, Oklahoma; Delaware Nation, Oklahoma; Eastern Shawnee Tribe of Oklahoma; Fond du Lac Band of the Minnesota Chippewa Tribe, Minnesota; Forest County Potowatomi Community, Wisconsin; Grand Portage Band of the Minnesota Chippewa Tribe, Minnesota; Grand Traverse Band of the Ottawa and the Chippewa Indians, Michigan; Hannahville Indian Community, Michigan; Ho-Chunk Nation of Wisconsin; Keweenaw Bay Indian Community, Michigan; Kickapoo Tribe of Indians of the Kickapoo Reservation in Kansas; Kickapoo Tribe of Oklahoma; Lac Courte Oreilles Band of Lake Superior Chippewa Indians of Wisconsin; Lac Vieux Desert Band of Lake Superior Chippewa Indians of Michigan; Leech Lake Band of the Minnesota Chippewa Tribe, Minnesota; Little River Band of Ottawa Indians, Michigan; Little Traverse Bay Bands of Odawa Indians, Michigan; Match-e-be-nash-she-wish Band of Pottowatomi Indians of Michigan; Miami Tribe of Oklahoma; Mille Lacs Band of the Minnesota Chippewa Tribe, Minnesota; Nottawaseppi Huron Band of the Potawatomi, Michigan (previously listed as the Huron Potawatomi, Inc.); Ottawa Tribe of Oklahoma; Peoria Tribe of Indians of Oklahoma; Pokagon Band of Potawatomi Indians, Michigan and Indiana; Prairie Band of Potowatomi Nation (previously listed as the Prairie Band of Potowatomi Nation, Kansas); Red Cliff Band of Lake Superior Chippewa Indians of Wisconsin; Red Lake Band of Chippewa Indians, Minnesota; Sac and Fox Tribe of the Mississippi in Iowa; Sac and Fox Nation of Missouri in Kansas and Nebraska, Sac and Fox Nation, Oklahoma; Saginaw Chippewa Indian Tribe of Michigan; Sault Ste. Marie Tribe of Chippewa Indians, Michigan; Shawnee Tribe; Sokaogon Chippewa Community, Wisconsin; St. Croix Chippewa Indians of Wisconsin; Turtle Mountain Band of Chippewa Indians of North Dakota; White Earth Band of Minnesota Chippewa Tribe, Minnesota; Winnebago Tribe of Nebraska; and the Wyandotte Nation (hereafter The Consulted Tribes).

History and Description of the Remains

In April 2011, human remains representing, at minimum, one individual were removed from Galien River in Berrien County, MI. In early April of 2011 a minor was fishing in the Galien River in new Buffalo Township, MI. After casting into the center of the river the youth reeled in what appeared to be a large bone. The youth took the bone to his high school science teacher who contacted the Berrien County Sheriff's Office.

The Sheriff's Office's Dive Team responded by searching a section of the river approximately eight feet square, where they found additional skeletonized human remains. All of the human remains, including the original bone found by the minor, were transported to the Anthropology Department at Michigan State University and examined by Dr. Norman Sauer. The human remains were found to be “adult prehistoric Native American” of indeterminate gender, and returned to the Berrien County Sheriff's Office. No known individuals were identified. No associated funerary objects are present.

At the time of the excavation and removal of these human remains, the land from which the remains were removed was not the tribal land of any Indian tribe or Native Hawaiian organization.

Determinations Made by the Berrien County Sheriff's Office

Officials of the Berrien County Sheriff's Office have determined that:

• Pursuant to 25 U.S.C. 3001(9), the human remains described in this notice are Native American based on osteological evidence.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of The Consulted Tribes

• Pursuant to 43 CFR 10.11(c)(2)(i), the disposition of the human remains may be to The Consulted Tribes.

Additional Requestors and Disposition

Representatives of any Indian tribe or Native Hawaiian organization not identified in this notice that wish to request transfer of control of these human remains should submit a written request with information in support of the request to the Berrien County Sheriff's Office, Attention Chief Deputy Michael Bradley, 919 Port Street, Saint Joseph, MI 49085, email mbradley@berriencounty.org by April 29, 2016.

After that date, if no additional requestors have come forward, transfer of control of the human remains to The Consulted Tribes may proceed.

The Berrien County Sheriff's Office is responsible for informing The Consulted Tribes that this notice has been published:

Dated: February 18, 2016.
Melanie O'Brien,
Manager, National NAGPRA Program.

[FR Doc. 2016-07106 Filed 3-29-16; 8:45 am]

BILLING CODE 4312-50-P